DEPARTMENT OF HOUSING AND URBAN DEVELOPMENT

[Docket No. FR-4565-N-23]

Notice of Proposed Information Collection: Comment Request; Mortgagee's Application for Partial Settlement (Multifamily Mortgage)

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: November 14, 2000.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8100, Washington, DC 20410.

FOR FURTHER INFORMATION CONTACT: Patricia L. Tarber, Systems Accountant, Office of Financial Services, Department of Housing and Urban Development, 451 7th Street SW., Washington, DC 20410, telephone (202) 708- (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Mortgagee's Application for Partial Settlement (Multifamily Mortgage).

OMB Control Number, if applicable: 2502-0427.

Description of the need for the information and proposed use: When the mortgage goes into default, the lender may elect to file with the Department a claim for insurance benefits. Statute 12 USC 1713(g) and Title II, Section 207(g) of the National Housing Act provides that, “* * * the mortgagee shall be entitled to receive the benefits of the insurance as hereinafter provided, upon assignment, transfer, and delivery to the Secretary, within a period and in accordance with rules and regulations to be prescribed by the Secretary of all rights and interest arising under the mortgage so in default: * * * at its options and in accordance with regulations of, and in a period to be determined by the Secretary, proceed to foreclose on and obtain possession of or otherwise acquire sure property after default and receive the benefits of the insurance as herein provided upon the prompt conveyance of the Secretary the title of the property * * *” The mortgagee may receive a portion of the benefits immediately after the assignment or conveyance. The partial amount is computed in accordance with the foregoing statutory provisions and regulations promulgated under 24 CFR 207.251 Subpart B.

Agency form numbers, if applicable: HUD-2537.

Estimation of the total numbers of hours needed to prepare the information collection including number of respondents, frequency of response, and hours of response: The estimated number of respondents is 215, frequency of response is one claim per submission, the total annual burden hours requested are 54.

Status of the proposed information collection: Reinstatement, without change, of a previously approved information collection.

Authority: The Paperwork Reduction Act of 1995, 44 U.S.C., Chapter 35, as amended.

Dated: September 8, 2000.
William C. Apgar,
Assistant Secretary for Housing-Federal Housing Commissioner.

[FR Doc. 00-23718 Filed 9-14-00; 8:45 am]

BILLING CODE 4210-27-M